DEPARTMENT OF THE INTERIOR

Bureau of Land Management

[CACA 49537, LLCAD08000, L51030000.FX0000, LVRAB109AA02]

Notice of Correction to Notice of Availability of the Draft Environmental Impact Statement/Staff Assessment to the California Desert Conservation Area Plan for the Calico Solar (Formerly SES Solar One) Project, San Bernardino County, CA

AGENCY: Bureau of Land Management, Interior.

ACTION: Notice of Correction.

SUMMARY: The Bureau of Land Management published a Notice of Availability of the Draft Environmental Impact Statement (EIS)/Staff Assessment (SA) and Possible Amendment to the California Desert Conservation Area Plan for the Calico Solar Project, San Bernardino County, California in the Federal Register on April 19, 2010 (75 FR 20376). Today's Federal Register notice provides information inadvertently omitted on how the public can submit comments.

ADDRESSES: Written comments pertaining to the Draft EIS/SA Calico Solar Project may be submitted by any of the following methods:

• E-mail: cacalicospp@blm.gov

• Fax: (760) 252-6098

• Mail: BLM Barstow Field Office, Attn: Calico Solar, 2601 Barstow Road, Barstow, California 92311.

Copies of the Calico Solar Draft EIS/SA are available at the above address. The document may also be viewed at public libraries in San Bernardino County, Sacramento, Fresno, San Francisco, Los Angeles, Eureka, and San Diego.

FOR FURTHER INFORMATION CONTACT: Jim Stobaugh, BLM Project Manager, by mail: P.O. Box 12000, Reno, Nevada 89520; phone (775) 861-6478; or e-mail Jim_Stobaugh@blm.gov.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

Thomas Pogacnik,
Deputy State Director, Natural Resources.

[FR Doc. 2010-14927 Filed 6-18-10; 8:45 am]

BILLING CODE 4310-40-P